LEGAL SERVICES CORPORATION

Notice of Funding Availability and Request for Proposals for Calendar Year 2026 Basic Field Grant Awards; Correction

AGENCY: Legal Services Corporation.

ACTION: Notice; correction.

SUMMARY: The Legal Services Corporation (LSC) published a document in the Federal Register of March 12, 2025, informing the public about the availability of funding for 2026 Basic Field Grants. This document corrects the inadvertent omission of the TN-4 service area from the service areas in competition.

FOR FURTHER INFORMATION CONTACT: Christine Williams, Program Manager for Basic Field Grant Competition, 202-295-1602, lscgrants@lsc.gov; or visit the LSC website at https://www.lsc.gov/grants/basic-field-grant.

SUPPLEMENTARY INFORMATION:

Correction

In the Federal Register of March 12, 2025, in FR Doc. 2025-03884, on page 11853, in the third column, correct the first line of the table under the heading to read:

Tennessee TN-4, TN-7, TN-9, TN-10

(Authority: 42 U.S.C. 2996g(e).)

Dated: March 26, 2025.
Stefanie Davis,
Deputy General Counsel, Legal Services Corporation.

[FR Doc. 2025-05549 Filed 3-31-25; 8:45 am]

BILLING CODE 7050-01-P